GENERAL SERVICES ADMINISTRATION

41 CFR Chapter 301-10

[FTR Amendment 2008-05; FTR Case 2008-304; Docket 2008-0002, Sequence 3]

RIN 3090-AI65

Federal Travel Regulation; Privately Owned Vehicle Mileage Reimbursement

AGENCY: Office of Governmentwide Policy, General Services Administration (GSA).

ACTION: Final rule.

SUMMARY: This final rule amends the mileage reimbursement rate for use of a privately owned vehicle (POV) when that mode of transportation is authorized or approved as more advantageous to the Government. The governing regulation is revised to increase the cost of operating a privately owned airplane from $1.07 to $1.26 per mile, a privately owned automobile (POA) from $0.505 to $0.585 cents per mile, and a privately owned motorcycle from $0.305 to $0.585 cents per mile.

DATES: Effective Date: This final rule is effective July 28, 2008.

Applicability Date: This final rule applies to travel performed on or after August 1, 2008.

FOR FURTHER INFORMATION CONTACT The Regulatory Secretariat (VPR), Room 4041, GS Building, Washington, DC, 20405, (202) 501-4755, for information pertaining to status or publication schedules. For clarification of content, contact Patrick McConnell, Office of Governmentwide Policy, Travel Management Policy, at (202) 501-2362. Please cite FTR Amendment 2008-05; FTR case 2008-304.

SUPPLEMENTARY INFORMATION:

A. Background

Pursuant to 5 U.S.C. 5707(b), the Administrator of General Services has the responsibility to establish the POV mileage reimbursement rates. The Acting Administrator of General Services has determined that the per-mile operating cost of each POV is as follows:

Airplane—Costs presented in the 1995 initial investigation of operating costs of privately owned aircraft are updated through GSA's consultation with the Aircraft Owners and Pilots Association. The general methodology, in part, included information and items such as average U.S. retail price for aviation fuel, maintenance labor and parts, engine and propeller overhaul, and all items associated with determining a composite single engine piston aircraft reimbursement rate for Federal employees using their own aircraft while on official travel. The per-mile operating cost of a privately owned airplane is $1.26.

Automobile—A recent investigation revealed that the per-mile operating cost of a privately owned automobile is $0.585 cents. As provided in 5 U.S.C. 5704(a)(1), the automobile reimbursement rate cannot exceed the single standard mileage rate established by the Internal Revenue Service (IRS). On June 23, 2008, IRS announced a new single standard mileage rate for automobiles of $0.585 cents per mile effective July 1, 2008 to December 31, 2008.

Motorcycle—A report on the motorcycle mileage reimbursement rate prepared for GSA provides that the costs of operating a privately owned motorcycle for official travel now equals the mileage reimbursement rate set for official use of a privately owned automobile. The per-mile operating cost of a privately owned motorcycle is $0.585.

B. Executive Order 12866

This is not a significant regulatory action and, therefore, was not subject to review under Section 6(b) of Executive Order 12866, Regulatory Planning and Review, dated September 30, 1993. This final rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the Federal Travel Regulation do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Part 301-10

Government employees, Travel and transportation expenses.

Dated: July 11, 2008.
David L. Bibb,
Acting Administrator of General Services.

For the reasons set forth in the preamble, under 5 U.S.C. 5701-5709, GSA amends 41 CFR part 301-10 as set forth below:

PART 301-10—TRANSPORTATION EXPENSES

1. The authority citation for 41 CFR part 301-10 continues to read as follows:

Authority: 5 U.S.C. 5707, 40 U.S.C. 121(c); 49 U.S.C. 40118, Office of Management and Budget Circular No. A-126, “Improving the Management and Use of Government Aircraft.” Revised April 28, 2006.

§ 301-10.303 [Amended]

2. In § 301-10.303, in the table, in the second column, under the heading “Your reimbursement is”, remove “¹$1.07” and add “¹$1.26” in its place; remove “¹$0.505” and insert “¹$0.585” in its place; and remove “¹$0.305” and insert “¹$0.585” in its place.

Note: The following attachment will not appear in the Code of Federal Regulations.

Attachment to Preamble

GENERAL SERVICES ADMINISTRATION

REPORTING TO CONGRESS—THE COSTS OF OPERATING PRIVATELY OWNED VEHICLES

Paragraph (b) of Section 5707 of Title 5, United States Code, requires the Administrator of General Services to periodically investigate the cost to Government employees of operating privately owned vehicles (airplanes, automobiles, and motorcycles) while on official travel, to report the results of the investigations to Congress, and to publish a report in the Federal Register. The following report on the privately owned vehicle mileage reimbursement rates is published in the Federal Register.

Dated: July 11, 2008.

David L. Bibb,

Acting Administrator of General Services.

Reporting To Congress—The Costs of Operating Privately Owned Vehicles

5 U.S.C. 5707(b)(1)(A) requires that the Administrator of General Services, in consultation with the Secretary of Defense, the Secretary of Transportation, and representatives of Government employee organizations, conduct periodic investigations of the cost of travel and operation of privately owned vehicles (airplanes, automobiles, and motorcycles) to Government employees while on official travel, and report the results to the Congress at least once a year. 5 U.S.C. 5707(a)(1) requires that the Administrator of General Services issue regulations prescribing mileage reimbursement rates and determine the average, actual cost per mile for the use of each type of privately owned vehicle based on the results of these cost investigations. Such figures must be reported to the Congress within 5 working days after the cost determination has been made in accordance with 5 U.S.C. 5707(b)(2)(C).

Pursuant to the above, the General Services Administration (GSA), in consultation with the above-specified parties conducted investigations of the cost of operating privately owned vehicles. As provided in 5 U.S.C. 5704(a)(1), the privately owned automobile (POA) reimbursement rate cannot exceed the single standard mileage rate established by the Internal Revenue Service (IRS). The IRS announced a new single standard mileage rate for a POA of $0.585, which was effective July 1, 2008 through December 31, 2008. As required, GSA is reporting the results of GSA's investigation and the cost per mile determination. Based on cost studies conducted by GSA, the Acting Administrator of General Services has determined the per-mile operating costs of a POA to be $0.585. In addition, the Acting Administrator of General Service has determined the per-mile operating costs of a privately owned airplane to be $1.26, and the per-mile operating costs of a privately owned motorcycle to be $0.585.

[FR Doc. E8-17183 Filed 7-25-08; 8:45 am]

BILLING CODE 6820-14-S